SECURITIES AND EXCHANGE COMMISSION

Sunshine Act Meetings

TIME AND DATE: Notice is hereby given, pursuant to the provisions of the Government in the Sunshine Act, Public Law 94-409, that the Securities and Exchange Commission will hold an Open Meeting on Wednesday, January 26, 2022 at 10:00 a.m.

PLACE: The meeting will be webcast on the Commission's website at www.sec.gov.

STATUS: The meeting will begin at 10:00 a.m. (ET) and will be open to the public via webcast on the Commission's website at www.sec.gov.

MATTERS TO BE CONSIDERED:

1. The Commission will consider whether to propose amendments to Form PF to require current reporting and amend reporting requirements.

2. The Commission will consider whether to propose amendments to the definition of an exchange under the Securities Exchange Act of 1934 and re-propose amendments to Regulation ATS for ATSs That Trade U.S. Government Securities, NMS Stock, and Other Securities and to Regulation SCI for ATSs That Trade U.S. Government Securities.

CONTACT PERSON FOR MORE INFORMATION: For further information and to ascertain what, if any, matters have been added, deleted or postponed, please contact Vanessa A. Countryman from the Office of the Secretary at (202) 551-5400.

Authority: 5 U.S.C. 552b.

Dated: January 19, 2022.
Vanessa A. Countryman,
Secretary.

[FR Doc. 2022-01315 Filed 1-19-22; 4:15 pm]

BILLING CODE 8011-01-P